DEPARTMENT OF LABOR

Employment and Training Administration

[TA-W-71,007]

Federal Marine Terminals, Inc., Eastport, ME; Notice of Termination of Investigation

Pursuant to Section 223 of the Trade Act of 1974, as amended, an investigation was initiated in response to a petition filed on June 5, 2009, by a company official on behalf of workers of Federal Marine Terminals, Inc., Eastport, Maine.

The petitioner has requested that the petition be withdrawn. Accordingly, the investigation has been terminated.

Signed at Washington, DC this 15th day of July 2009.
Linda G. Poole,
Certifying Officer, Division of Trade Adjustment Assistance.

[FR Doc. E9-18053 Filed 7-28-09; 8:45 am]

BILLING CODE 4510-FN-P